DEPARTMENT OF THE INTERIOR

Office of the Secretary

Notice of Availability of the Alternative Fueled Vehicle (AFV) Reports for Fiscal Year 1996 through Fiscal Year 2001

AGENCY: Office of the Secretary, Department of the Interior.

ACTION: Notice of Availability of the Alternative Fueled Vehicle (AFV) Reports for Fiscal Year 1996 through Fiscal Year 2001.

SUMMARY: The U.S. Department of the Interior, Office of the Secretary, is issuing this notice in order to comply with the Energy Policy Act of 1992, 42 U.S.C. 13201 et seq. and the United States District Court for the Northern District of California's order, in case number C 02-0027 WHA, Center for Biological Diversity, Bluewater Network and the Sierra Club v. Spencer Abraham, et al., that Federal agencies must place all alternative fueled vehicle data for Fiscal Years 1996-2001 on a publicly accessible Web site. The purpose of this notice is to announce the public availability of the Department of the Interior's AFV reports for Fiscal Year 1996 through Fiscal Year 2001 at the following Web site: http://www.doi.gov/pam

FOR FURTHER INFORMATION CONTACT: Questions regarding the reports of the AFV report Web site should be addressed to the Office of Acquisition and Property Management [Attn: Willie Davis] 1849 C Street NW., Mail Stop 5512, Washington, DC 20240, phone: 202-208-6352.

SUPPLEMENTARY INFORMATION: The Earthjustice Environmental Law Clinic filed suit in federal court in California on January 2, 2002 on behalf of the Center for Biological Diversity, Bluewater Network and the Sierra Club against the Department of the Interior and 16 other Federal agencies for failing to comply with the alternative fueled vehicle (AFV) acquisition and reporting requirements for federal fleets imposed by the Energy Policy Act of 1992 (EPAct). The lawsuit requested the Court to order Interior and the other federal agencies to comply with EPAct requirements and offset future vehicle purchases with the number of AFVs necessary to bring them into compliance with the requirements of the EPAct.

Dated: January 27, 2003.
P. Lynn Scarlett,
Assistant Secretary—Policy, Management and Budget.

[FR Doc. 03-2707 Filed 2-4-03; 8:45 am]

BILLING CODE 4310-RF-M